DEPARTMENT OF ENERGY

Federal Energy Regulatory Commission

[Docket No. EL10-50-000; Docket No. ER10-787-000]

New England Power Generators Association Inc., Complainant v. ISO New England Inc., Respondent; ISO New England Inc. and New England Power Pool; Notice of Complaint

March 24, 2010.

Take notice that on March 23, 2010, pursuant to section 206 of the Rules and Practice and Procedure, 18 CFR 385.206 and sections 206 of the Federal Power Act, 16 U.S.C. 824(e), New England Power Generators Association Inc. (Complainant) filed a formal complaint against ISO New England Inc. (Respondent) alleging that, the Respondent's current and proposed tariffs governing the Forward Capacity market (FCM) are unjust and unreasonable.

The Complainant certifies that copies of the complaint were served on the contacts for the Respondent and the New England Power Pool as listed on the Commission's list of Corporate Officials and on parties and regulatory agencies the Complainant reasonably expects to be affected by this Complaint, including all of the parties that have intervened in Docket ER10-787-000.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on April 6, 2010.

Kimberly D. Bose,
Secretary.

[FR Doc. 2010-7150 Filed 3-30-10; 8:45 am]

BILLING CODE 6717-01-P